DEPARTMENT OF HEALTH AND HUMAN SERVICES

Centers for Medicare & Medicaid Services

Privacy Act of 1974; CMS Computer Match No. 2013-07; HHS Computer Match No. 1303; DoD-DMDC Match No. 18

AGENCY: Centers for Medicare & Medicaid Services (CMS), Department of Health and Human Services (HHS).

ACTION: Notice of Computer Matching Program (CMP).

SUMMARY: In accordance with the requirements of the Privacy Act of 1974, as amended, this notice announces the establishment of a CMP that CMS plans to conduct with the Department of Defense (DoD), Defense Manpower Data Center (DMDC). We have provided background information about the proposed matching program in the “Supplementary Information” section below. Although the Privacy Act requires only that CMS provide an opportunity for interested persons to comment on the proposed matching program, CMS invites comments on all portions of this notice. See “Effective Dates” section below for comment period.

DATES: Effective Dates: Public comments are due 30 days after publication. The matching program shall become effective no sooner than 40 days after the report of the Matching Program is sent to OMB and Congress, or 30 days after publication in the Federal Register, whichever is later.

ADDRESSES: The public should send comments to: CMS Privacy Officer, Division of Privacy Policy, Privacy Policy and Compliance Group, Office of E-Health Standards & Services, Offices of Enterprise Management, CMS, Room S2-24-25, 7500 Security Boulevard, Baltimore, Maryland 21244-1850. Comments received will be available for review at this location, by appointment, during regular business hours, Monday through Friday from 9:00 a.m.-3:00 p.m., Eastern Time zone.

FOR FURTHER INFORMATION CONTACT: Aaron Wesolowski, Director, Verifications Policy & Operations Branch, Division of Eligibility and Enrollment Policy and Operations, Center for Consumer Information and Insurance Oversight, CMS, 7501 Wisconsin Avenue, Bethesda, MD 20814, Office Phone: (301) 492-4416, Facsimile: (443) 380-5531, Email: Aaron.Wesolowski@cms.hhs.gov.

SUPPLEMENTARY INFORMATION:

I. Description of the Matching Program

A. General

The Computer Matching and Privacy Protection Act of 1988 (Public Law (Pub. L.) 101-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

B. CMS Computer Matches Subject to the Privacy Act

CMS has taken action to ensure that all CMPs that this Agency participates in comply with the requirements of the Privacy Act of 1974, as amended.

Dated: July 6, 2013.
Michelle Snyder,
Chief Operating Officer, Centers for Medicare & Medicaid Services.

CMS Computer Match No. 2013-07

HHS Computer Match No. 1303

DoD-DMDC Match No. 18

NAME:

“Computer Matching Agreement between the Department of Health and Human Services, Centers for Medicare & Medicaid Services and the Department of Defense, Defense Manpower Data Center for the Determination of Eligibility for the Advance Premium Tax Credit and Cost Sharing Reductions under the Affordable Care Act.”

SECURITY CLASSIFICATION:

Unclassified.

PARTICIPATING AGENCIES:

Department of Health and Human Services (HHS), Centers for Medicare & Medicaid Services (CMS), and Department of Defense (DoD), Defense Manpower Data Center (DMDC).

AUTHORITY FOR CONDUCTING MATCHING PROGRAM:

This Computer Matching Program (CMP) is executed to comply with the provisions of the Privacy Act of 1974 (5 U.S.C. 552a), as amended, the Office of Management and Budget (OMB) Circular A-130 entitled, “Management of Federal Information Resources,” at 61 FR 6428-6435 (February 20, 1996), and OMB guidelines pertaining to computer matching at 54 FR 25818 (June 19, 1989) and 56 FR 18599 (April 23, 1991); and the computer matching portions of Appendix I to OMB Circular No. A-130 as amended at 61 Fed. Reg. 6428 (February 20, 1996).

PURPOSE(S) OF THE MATCHING PROGRAM:

This Computer Matching Agreement (CMA) establishes the terms, conditions, safeguards, and procedures under which DoD will provide records, information, or data to CMS for purposes of determining eligibility for advance payment of premium tax credits and cost sharing reductions under the Patient Protection and Affordable Care Act of 2010 (Pub. L. 111-148), as amended by the Health Care and Education Reconciliation Act of 2010 (Pub. L. 111-152) (collectively, the ACA).

Under this CMA, DoD will assist CMS by providing certain DoD data which is needed to make Eligibility Determinations. Data will be matched for the purpose of assisting CMS or a State-based Exchange to determine eligibility for the following benefits: (1) An advance premium tax credit under 26 U.S.C. 36B and (2) a cost sharing reduction under Section 1402 of the ACA. Specifically, CMS will use DoD data to verify an Applicant or Enrollee's eligibility for TRICARE health care as required under § 1411(c) of the ACA, which constitutes minimum essential coverage as defined in section 5000A(f) of the Internal Revenue Code of 1986, 26 U.S.C. 5000A, as amended by § 1501 of the ACA. This data will be used by CMS in its capacity as a Federally-facilitated Exchange, and by State-based Exchanges that will receive the results of verifications using DoD data accessed through the CMS Data Services Hub.

DESCRIPTION OF RECORDS TO BE USED IN THE MATCHING PROGRAM: System of Records Maintained by CMS

The matching program will be conducted with data maintained by CMS in the “Health Insurance Exchanges (HIX) Program,” System No. 09-70-0560, established at 78 FR 8538 on February 6, 2013, and amended at 78 FR 32256 on May 29, 2013.

The matching program will also be conducted with data maintained by DoD in the Defense Enrollment Eligibility Reporting System (DEERS), System No. DMDC 02 DoD, published November 21, 2012, 77 FR 69807, located at the EDS Service Management Center in Auburn Hills, MI.

INCLUSIVE DATES OF THE MATCH:

The CMP shall become effective no sooner than 40 days after the report of the Matching Program is sent to OMB and Congress, or 30 days after publication in the Federal Register, whichever is later. The matching program will continue for 18 months from the effective date and may be extended for an additional 12 months thereafter, if certain conditions are met.

[FR Doc. 2013-16845 Filed 7-12-13; 8:45 am]

BILLING CODE 4120-03-P